DEPARTMENT OF TRANSPORTATION

Federal Aviation Administration

Advanced Aviation Advisory Committee (AAAC); Notice of Public Meeting

AGENCY: Federal Aviation Administration, Department of Transportation.

ACTION: Notice of Advanced Aviation Advisory Committee (AAAC) meeting.

SUMMARY: This notice announces a meeting of the AAAC.

DATES: The meeting will be held on June 30, 2022, between the hours of 10:00 a.m. to 2:30 p.m. Eastern Time. Requests for accommodations for a disability must be received by June 23, 2022. Requests to submit written materials to be reviewed during the meeting must be received no later than June 23, 2022.

ADDRESSES: The meeting will be held at the William F. Bolger Center, Potomac, MD. In-person attendance is limited to Advanced Aviation Advisory Committee members and selected FAA support staff. Members of the public who wish to observe the meeting through virtual means can access the livestream on the following FAA social media platforms on the day of the event, https://www.facebook.com/FAA or https://www.youtube.com/FAAnews. For copies of meeting minutes along with all other information please visit the AAAC internet website at https://www.faa.gov/uas/programs_partnerships/advanced_aviation_advisory_committee/.

FOR FURTHER INFORMATION CONTACT: Gary Kolb, Advanced Aviation Advisory Committee Manager, Federal Aviation Administration, U.S. Department of Transportation, at gary.kolb@faa.gov or 202-267-4441. Any committee related request or reasonable accommodation request should be sent to the person listed in this section.

SUPPLEMENTARY INFORMATION:

I. Background

The AAAC was created under the Federal Advisory Committee Act (FACA), in accordance with Title 5 of the United States Code (5 U.S.C. App. 2) to provide the FAA with advice on key drone and advanced air mobility (AAM) integration issues by helping to identify challenges and prioritize improvements.

II. Agenda

At the meeting, the agenda will cover the following topics:

• Official Statement of the Designated Federal Officer

• Approval of the Agenda and Minutes

• Opening Remarks

• FAA Update

• Industry-Led Technical Topics

• New Business/Agenda Topics

• Closing Remarks

• Adjourn

Additional details will be posted on the AAAC internet website address listed in the ADDRESSES section at least 5 days in advance of the meeting.

III. Public Participation

The meeting will be open to the public via a livestream. Members of the public who wish to observe the virtual meeting can access the livestream on the following FAA social media platforms on the day of the event, https://www.facebook.com/FAA or https://www.youtube.com/FAAnews. The U.S. Department of Transportation is committed to providing equal access to this meeting for all participants. If you need alternative formats or services because of a disability, such as sign language, interpretation, or other ancillary aids, please contact the person listed in the FOR FURTHER INFORMATION CONTACT section.

The FAA is not accepting oral presentations at this meeting due to time constraints. Written statements submitted by the deadline will be provided to the AAAC members before the meeting. Any member of the public may submit a written statement to the committee at any time.

Issued in Washington, DC.
Jessica A. Orquina,
Acting Manager, Executive Office, AUS-10, Federal Aviation Administration.

[FR Doc. 2022-12342 Filed 6-7-22; 8:45 am]

BILLING CODE 4910-13-P